DEPARTMENT OF TRANSPORTATION

Federal Aviation Administration

14 CFR Part 39

[Docket No. FAA-2005-21331; Directorate Identifier 2005-NE-07-AD; Amendment 39-14604; AD 2006-10-21]

RIN 2120-AA64

Airworthiness Directives; Engine Components Incorporated (ECi) Reciprocating Engine Connecting Rods; Correction

AGENCY: Federal Aviation Administration, DOT.

ACTION: Final rule; correction.

SUMMARY: This document makes a correction to Airworthiness Directive (AD) 2006-10-21. That AD applies to Engine Components Incorporated (ECi) reciprocating engine connecting rods. We published AD 2006-10-21 in the Federal Register on May 18, 2006, (71 FR 28769). An incorrect amendment number exists under the § 39.13 amended heading. This document corrects the amendment number. In all other respects, the original document remains the same.

DATES: Effective Date: Effective June 16, 2006.

FOR FURTHER INFORMATION CONTACT: Peter Hakala, Aerospace Engineer, Special Certification Office, FAA, Rotorcraft Directorate, 2601 Meacham Blvd., Fort Worth, TX 76193; telephone (817) 222-5145; fax (817) 222-5785.

SUPPLEMENTARY INFORMATION: A final rule AD, FR Doc. 06-4046, that applies to Engine Components Incorporated (ECi) reciprocating engine connecting rods was published in the Federal Register on May 18, 2006, (71 FR 28769). The following correction is needed:

§ 39.13 [Corrected]

On page 28771, in the third column, under § 39.13 [Amended], in the fifth and sixth lines, “Amendment 39-14605” is corrected to read “Amendment 39-14604”.

Issued in Burlington, MA, on June 9, 2006.
Thomas A. Boudreau,
Acting Manager, Engine and Propeller Directorate, Aircraft Certification Service.

[FR Doc. 06-5427 Filed 6-15-06; 8:45 am]

BILLING CODE 4910-13-P